DEPARTMENT OF THE INTERIOR

Bureau of Reclamation

Remanded Biological Opinions on the Coordinated Long-Term Operation of the Central Valley Project and State Water Project

AGENCY: Bureau of Reclamation, Interior.

ACTION: Notice of extension of public comment period for the scoping process.

SUMMARY: The Bureau of Reclamation is extending the public comment period for the scoping process to June 28, 2012. We published the notice of intent in the Federal Register on March 28, 2012 (77 FR 18858). The public review was originally scheduled to end on May 29, 2012.

DATES: Written comments as part of the scoping process will be accepted on or before June 28, 2012.

ADDRESSES: Send written comments to Janice Piñero, Endangered Species Compliance Act Specialist, Bureau of Reclamation, Bay-Delta Office, 801 I Street, Suite 140, Sacramento, CA 95814-2536; fax to (916) 414-2439; or email at jpinero@usbr.gov.

FOR FURTHER INFORMATION CONTACT: Janice Piñero at (916) 414-2428; or email at jpinero@usbr.gov.

Public Disclosure

Before including your name, address, phone number, email address or other personal identifying information in your comment, you should be aware that your entire comment—including your personal identifying information—may be made publicly available at any time. While you can ask us in your comment to withhold your personal identifying information from public review, we cannot guarantee that we will be able to do so.

Dated: May 7, 2012.
Anastasia T. Leigh,
Regional Environmental Officer, Mid-Pacific Region.

[FR Doc. 2012-12738 Filed 5-24-12; 8:45 am]

BILLING CODE 4310-MN-P